FEDERAL COMMUNICATIONS COMMISSION

Notice of Public Information Collection(s) Being Reviewed by the Federal Communications Commission, Comments Requested

May 5, 2008.

SUMMARY: The Federal Communications Commission, as part of its continuing effort to reduce paperwork burdens, invites the general public and other Federal agencies to take this opportunity to (PRA) of 1995 (PRA), Public Law No. 104-13. An agency may not conduct or sponsor a collection of information unless it displays a currently valid control number. Subject to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before July 8, 2008. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION: OMB Control Number: 3060-0854.

Title: Truth-in-Billing Format, CC Docket No. 98-170 and CG Docket No. 04-208.

Form Number: Not Applicable.

Type of Review: Extension of a currently approved collection.

Respondents: Business or other for-profit entities.

Number of Respondents and Responses: 5,309 respondents; 34,866 responses.

Estimated Time per Response: 5 to 465 hours.

Frequency of Response: On occasion reporting requirement; Third party disclosure.

Total Annual Burden: 4,636,942 hours.

Total Annual Cost: $15,418,000.

Obligation to Respond: Required to obtain or retain benefits. The statutory authority for this obligation is found at Section 201(b) of the Communications Act of 1934 [47 U.S.C. 201(b)] Service and Charges, codified at 47 CFR 64.2401, Truth-in-Billing Requirements, and Section 258 of the Communications Act of 1934 [47 U.S.C. 258] Illegal Changes in Subscriber Carrier Selections, Public Law 104-104, 110 Stat. 56.

Nature and Extent of Confidentiality: An assurance of confidentiality is not offered because this information collection does not require the collection of personally identifiable information (PII) from individuals.

Privacy Impact Assessment: No impact(s).

Needs and Uses: On March 18, 2005, the Commission released a Second Report and Order, and Declaratory Ruling, FCC 05-55, which determined that Commercial Mobile Radio Service (CMRS) providers no longer should be exempted from 47 CFR 64.2401(b), which requires billing descriptions to be brief, clear, non-misleading and in plain language. Also, in conjunction with the Second Report and Order, and Declaratory Ruling, the Commission released a Second Further Notice of Proposed Rulemaking which proposed and sought comment on measures to enhance the ability of consumers to make informed choices among competitive telecommunications providers.

Federal Communications Commission.
Marlene H. Dortch,
Secretary.

[FR Doc. E8-10371 Filed 5-8-08; 8:45 am]

BILLING CODE 6712-01-P